DEPARTMENT OF AGRICULTURE

Forest Service

Proposed New Recreation Fee Sites; Correction

AGENCY: Forest Service, Agriculture (USDA).

ACTION: Notice; correction.

SUMMARY: The Forest Service published a document in the Federal Register of September 21, 2023, concerning new recreation fee sites on the Shoshone National Forest. The document contained incorrect contact information and supplementary information.

Correction

In the Federal Register of September 21, 2023, in FR Doc. 2023-20415, on page 65151, in the second column, correct the FOR FURTHER INFORMATION CONTACT caption to read:

FOR FURTHER INFORMATION CONTACT: Paul Rau, Outdoor Recreation Planner, 307-578-5140, or paul.rau@usda.gov.

Correction

In the Federal Register of September 21, 2023, in FR Doc. 2023-20415, on page 65151, in the third column, correct the second paragraph under SUPPLEMENTARY INFORMATION caption to read:

SUPPLEMENTARY INFORMATION: An expanded amenity recreation fee of $5 per site per night would be charged at the Aspen Glade, Frye Lake, Hugh Otte, Little Popo Agie, and Warm Springs Campground. An expanded amenity recreation fee of $10 per night would be charged at Brown Mountain, Deer Creek, Jack Creek, Lily Lake, Little Sunlight, Wild Iris, and Wood River Campgrounds. The recreation fee revenues would enhance recreation opportunities, improve customer service, and address maintenance needs. Reservations for the campgrounds could be made online at www.recreation.gov or by calling 877-444-6777. Reservations would cost $8.00 per reservation.

Dated: October 5, 2023.
Jacqueline Emanuel,
Associate Deputy Chief, National Forest System.

[FR Doc. 2023-22547 Filed 10-12-23; 8:45 am]

BILLING CODE 3411-15-P